DEPARTMENT OF ENERGY

Energy Information Administration

Agency Information Collection Extension

AGENCY: U.S. Energy Information Administration (EIA), Department of Energy (DOE).

ACTION: Notice and request for comments.

SUMMARY: EIA invites public comment on the proposed three-year extension, with changes, to the Uranium Data Program (UDP) as required under the Paperwork Reduction Act of 1995. The UDP consists of three surveys: Form EIA-851A Domestic Uranium Production Report (Annual), which collects annual data from the U.S. uranium industry on uranium milling and processing, uranium feed sources, uranium mining, employment, drilling, expenditures, and uranium reserves; Form EIA-851Q Domestic Uranium Production Report (Quarterly), which collects monthly data that is reported on a quarterly basis, on uranium production on a quarterly basis; and Form EIA-858 Uranium Marketing Annual Survey, which collects annual data from the U.S. uranium market on uranium contracts and deliveries, inventories, enrichment services purchased, uranium in fuel assemblies, feed deliveries to enrichers, and unfilled market requirements for the current year and the following ten years.

DATES: EIA must receive all comments on this proposed information collection no later than November 23, 2020. If you anticipate any difficulties in submitting your comments by the deadline, contact the person listed in ADDRESSES section of this notice as soon as possible.

ADDRESSES: Send comments to Tim Shear by email to Uranium2021@eia.gov.

FOR FURTHER INFORMATION CONTACT: Tim Shear, U.S. Energy Information Administration, telephone (202) 586-0403, email Tim.Shear@eia.gov. The draft forms and instructions are available at https://www.eia.gov/survey/changes/uranium/2020/.

SUPPLEMENTARY INFORMATION: This information collection request contains:

(1) OMB No.: 1905-0160;

(2) Information Collection Request Title: Uranium Data Program;

(3) Type of Request: Three-year extension with changes;

(4) Purpose: Uranium Data Program collects data on domestic uranium supply and demand activities, including production, exploration and development, trade, purchases and sales available to the U.S. The users of these data include Congress, Executive Branch agencies, the nuclear and uranium industry, electric power industry, and the public. Form EIA-851A data is published in EIA's Domestic Uranium Production Report—Annual, at http://www.eia.gov/uranium/production/annual/. Form EIA-851Q data is published in EIA's Domestic Uranium Production Report—Quarterly at http://www.eia.gov/uranium/production/quarterly/. Form EIA-858 data is published in EIA's Uranium Marketing Annual Report at http://www.eia.gov/uranium/marketing/ and Domestic Uranium Production Report—Annual at http://www.eia.gov/uranium/production/annual/;

(4a) Proposed change to information collection: EIA will no longer protect information reported on Form EIA-851A and EIA-851Q under the Confidential Information Protection and Statistical Efficiency Act of 2018 (CIPSEA). Information reported on Form EIA-858 will continue to be protected under CIPSEA.

EIA proposes to apply exemptions under the Freedom of Information Act (FOIA) to protect information reported on Forms EIA-851A and EIA-851Q except for production data. Production data will be considered public and may be publicly released in an identifiable form. For the past six years, the items “Respondent and Contact Identification”, “Company Name”, and all of “Item 1: Facility Information” on Forms EIA-851Q and EIA-851A are considered public information and are publicly released in company or individually identifiable form on EIA's website. Data protection methods will continue to be applied to the statistical information reported on Forms EIA-851A and EIA-851Q, except for production data.

The data protection statement in the instructions to Forms EIA-851A and EIA-851Q will state:

The `Respondent and Contact Identification' (Company Name), `Item 1: Facility Information', and production data reported on Form EIA-851Q/A are considered public information and may be released in company identifiable form. Additional information reported on this form may be protected and may not be disclosed to the public to the extent that it satisfies the criteria for exemption under the Freedom of Information Act (FOIA), 5 U.S.C. 552, the Department of Energy (DOE) regulations, 10 CFR 1004, implementing the FOIA, and the Trade Secrets Act, 18 U.S.C. 1905.

The Federal Energy Administration Act requires EIA to provide company-specific data to other Federal agencies when requested for official use. The information reported on this form may also be made available, upon request, to another component of the Department of Energy (DOE); to any Committee of Congress, the Government Accountability Office, or other Federal agencies authorized by law to receive such information. A court of competent jurisdiction may obtain this information in response to an order. The information may be used for any non-statistical purposes such as administrative, regulatory, law enforcement, or adjudicatory purposes.

Data protection methods are applied to the statistical information reported on Forms EIA-851A and EIA-851Q, except for production data.

The reason EIA is proposing this change in the data protection for Forms EIA-851A and EIA-851Q is due to a material change in circumstances that occurred over the past 15 years in the domestic uranium production markets that was unforeseen when EIA initially placed these surveys under CIPSEA protection in 2004. Domestic uranium production has significantly decreased from a recent high of 4,891 thousand pounds U3O8 in 2014 to 174 thousand pounds U3O8 in 2019. Over 90% of the uranium purchased by owners and operators of U.S. civilian nuclear power reactors in 2018 and 2019 was from uranium imports of foreign origin. The number of respondents reporting domestic production has steadily declined over the past 15 years as imports of uranium dominate U.S. uranium markets and domestic firms either cease operations or merge with other companies. As fewer respondents contribute to the published aggregates, EIA needs to withhold from publication all of the data at the state and regional level. The practical utility of the information collected is undermined by EIA withholding most of the data it collects on these survey forms. Cognitive research showed that the majority of the respondents to Forms EIA-851A and EIA-851Q are not concerned if informed users infer reported values from published statistical aggregates in data tables. The main reason survey respondents provided was that the information reported on Forms EIA-851A and EIA-851Q is already publicly available. In addition, since 2016, the current instructions to Forms EIA-851A and EIA-851Q have stated the name and address of the respondent are considered public information.

(5) Annual Estimated Number of Respondents: 102;

(6) Annual Estimated Number of Total Responses: 135;

(7) Annual Estimated Number of Burden Hours: 1098;

(8) Annual Estimated Reporting and Recordkeeping Cost Burden: EIA estimates that there are no capital and start-up costs associated with this data collection. The information is maintained during the normal course of business. The cost of the burden hours is estimated to be $87,993.72 (1,098 burden hours times $80.14 per hour). Other than the cost of burden hours, EIA estimates that there are no additional costs for generating, maintaining, and providing this information.

Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Statutory Authority: Section 13(b) of the Federal Energy Administration Act of 1974, Pub. L. 93-275, codified as 15 U.S.C. 772(b) and the DOE Organization Act of 1977, Pub. L. 95-91, codified at 42 U.S.C. 7101.

Signed in Washington, DC, on September 16, 2020.
Thomas Leckey,
Assistant Administrator for Energy Statistics, U.S. Energy Information Administration.

[FR Doc. 2020-20870 Filed 9-21-20; 8:45 am]

BILLING CODE 6450-01-P